ENVIRONMENTAL PROTECTION AGENCY

[FRL-8754-3]

Brown & Bryant Superfund Site; Notice of Proposed CERCLA Administrative Settlement Agreement and Order on Consent

AGENCY: Environmental Protection Agency (EPA).

ACTION: Notice; request for public comment.

SUMMARY: In accordance with section 122(i) of the Comprehensive Environmental Response, Compensation, and Liability Act, as amended (“CERCLA”), 42 U.S.C. 9622(i), the EPA is hereby providing notice of a proposed administrative settlement agreement and order on consent (“Settlement Agreement”) with Union Pacific Railroad Company and BNSF Railway Company (“the Respondents”) concerning the Brown & Bryant Superfund Site in Arvin, California (“Site”). Section 122(h) of CERCLA, 42 U.S.C. 9622(h), provides EPA with the authority to enter into administrative settlements for claims for costs incurred by EPA under CERCLA.

The Settlement Agreement resolves certain claims under Sections 106 and 107 of CERCLA, 42 U.S.C. 9606, 9607. Under the Settlement Agreement, each Respondent will pay EPA $492,500, for a total of $985,000 (“Settled Response Costs”). Respondents are jointly and severally liable for the total amount due under the Settlement Agreement.

The Settled Response Costs will be deposited in the Brown & Bryant Superfund Site Special Account within the EPA Hazardous Substance Superfund. EPA will use all Settled Response Costs in the Brown & Bryant Superfund Site Special Account to relocate Arvin City Well 1, as the first phase of the remedy selected in the Record of Decision issued on September 30, 2007. If any portion of the Settled Response Costs remains in the Brown & Bryant Superfund Site Special Account after full implementation of this work, EPA will, after consultation with the Respondents, apply such funds for other response costs at or in connection with the Site. In the event that there are no additional costs at the Site to which the funds can be applied, EPA may transfer the funds to the EPA Hazardous Substance Superfund.

The Settlement Agreement may be examined at the following EPA Web site: http://www.epa.gov/region09/brown&bryant. The Settlement Agreement also may be examined at the U.S. Environmental Protection Agency Region IX, 75 Hawthorne Street, Office of Regional Counsel, San Francisco, California 94105, and also at the public information repository located at the Kern County Library, Arvin Branch, 201 Campus Drive, Arvin, California 93203. A paper or electronic copy of the Settlement Agreement may also be obtained from Joshua Wirtschafter, who can be contacted by mail at U.S. Environmental Protection Agency Region IX, 75 Hawthorne Street (mail code ORC-3), San Francisco, California 94105-3901, by telephone at (415) 972-3912, by fax at (415) 947-3570, or by e-mail at Wirtschafter.Joshua@epa.gov.

DATES: EPA must receive comments by January 20, 2009 relating to the Settlement Agreement. EPA will consider all comments it receives during this period, and may not consent to the settlement if any comments disclose facts or considerations indicating that the settlement is inappropriate, improper, or inadequate.

ADDRESSES: Written comments may be submitted to Joshua Wirtschafter by mail, fax, or e-mail to the U.S. Environmental Protection Agency Region IX, 75 Hawthorne Street (mail code ORC-3), San Francisco, California 94105-3901, by telephone at (415) 972-3912, by fax at (415) 947-3570, or by e-mail at Wirtschafter.Joshua@epa.gov.

FOR FURTHER INFORMATION CONTACT: Additional information about the Site and about the proposed Settlement Agreement may be obtained by contacting Joshua Wirtschafter at (415) 972-3912.

Dated: December 8, 2008.
Nancy Lindsey,
Acting Director, Superfund Division, Region IX.

[FR Doc. E8-30200 Filed 12-18-08; 8:45 am]

BILLING CODE 6560-50-P